DEPARTMENT OF COMMERCE

Bureau of Industry and Security

15 CFR Part 744

[Docket No. 230920-0227]

RIN 0694-AJ30

Addition of Entities and Revision to Existing Entities on the Entity List; Removal of Existing Entity From the Military End User List

AGENCY: Bureau of Industry and Security, Department of Commerce.

ACTION: Final rule.

SUMMARY: In this rule, the Bureau of Industry and Security (BIS) amends the Export Administration Regulations (EAR) by adding twenty-eight entities to the Entity List under the destinations of the People's Republic of China (China), Finland, Germany, Oman, Pakistan, Russia and the United Arab Emirates. These entities have been determined by the U.S. Government to be acting contrary to the national security or foreign policy interests of the United States. This rule also revises two existing entries on the Entity List under the destinations of China and Pakistan and removes an entity from the Military-End User List under the destination of China.

DATES: This rule is effective September 27, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

Pursuant to § 744.11 of the EAR, the ERC determined to add the following entities to the entity list: Asia Pacific Links Ltd. under the destination of China; Evolog Oy, Luminor Oy, and Siberica Oy under the destination of Finland; ICW-Industrial Components Weirich under the destination of Germany; and Device Consulting, Grant Instrument, SMT-iLogic, and Streloy under the destination of Russia. These entities have been implicated in a conspiracy to violate U.S. export controls, including a scheme to supply the Special Technology Center, an entity on the BIS Entity List, with components to make unmanned aerial vehicles (UAVs) for Russia's Main Intelligence Directorate of the General Staff (GRU). This activity is contrary to U.S. national security and foreign policy interests under § 744.11 of the EAR.

The ERC determined to add Speed Business Trading (HK) Ltd. and Sunrising Logistics (HK) Ltd. to the Entity List under the destination of China, on the basis of actions and activities that are contrary to the national security and foreign policy interests of the United States. Specifically, these companies have procured and/or attempted to procure U.S.-origin items that would ultimately support Iran's weapons of mass destruction and UAV programs.

The ERC determined to add Nanjing Institute of Astronomical Optics and Technology to the Entity List. This entity is added to the Entity List under the destination of China for procuring U.S.-origin items in likely furtherance of Chinese military research, and contrary to the national security and foreign policy interests of the United States, under § 744.11 of the EAR.

The ERC determined to add International Smart Digital Interface Company (ISDIC) and associated individual Moaz Ahmed Mohammed al-Haifi to the Entity List under the destination of Oman for actions contrary to the national security and foreign policy interests of the United States under § 744.11 of the EAR. Specifically, these entities have provided support to Yemen-based Houthi forces.

For these fourteen entities added to the Entity List, there is a license requirement for all items subject to the EAR. License applications will be reviewed pursuant under a presumption of denial.

The ERC determined to add the following entities to the Entity List for contributions to Pakistan's unsafeguarded nuclear activities: New Era Enterprises FZE under the destination of the United Arab Emirates; Well Fair International (Hong Kong) Ltd. under the destination of China; and AHD International; Genesis Technical Consultancy Services; Indus Tooling Solution; Longford Engineering (Pvt) Ltd; and Polymaster Engineering under the destination of Pakistan. These seven entities require a license for all items subject to the EAR. License applications will be reviewed pursuant to § 744.2(d) of the EAR.

The ERC determined to add VSMPO-AVISMA Corporation PJSC to the Entity List under the destination of Russia for representing a critical risk of diversion of U.S defense technologies. VSMPO-AVISMA is directly involved in producing and manufacturing titanium and metal products for the Russian military and security services. The ERC has determined that this entity qualifies as a military end-user as defined in § 744.21(a)(2) of the EAR and is therefore receiving a footnote 3 designation because it is a Russian or Belarusian `military end user.' A footnote 3 designation subjects this entity to the Russia/Belarus-Military End User Foreign Direct Product (FDP) rule, detailed in § 734.9(g). This entity is added with a license requirement for all items subject to the EAR, and a license review policy of denial.

The ERC determined to add Guilin Alpha Rubber & Plastics Technology Company Limited, Hangzhou Fuyang Koto Machinery Company Limited, Raven International Trade Limited, S&C Trade PTY Company Limited, Shenzhen Caspro Technology Company Limited (Shenzhen Caspro), and an employee of Shenzhen Caspro, Yun Xia Yuan to the Entity List, all under the destination of China, for working as a network to procure aerospace components, including dual-use components for unmanned aerial vehicle applications, for the Iran Aircraft Manufacturing Company (HESA). The aerospace components are used to develop and produce Shahed-series UAVs, which have been used by Iran to attack oil tankers in the Middle East and by Russia in Ukraine. These activities are contrary to the national security and foreign policy interests of the United States under § 744.11. The ERC has determined that these six entities qualify as military end-users as defined in § 744.21(a)(2) of the EAR and are therefore receiving footnote 3 designations because they are Russian or Belarusian `military end users.' A footnote 3 designation subjects these entities to the Russia/Belarus-Military End User FDP rule, detailed in § 734.9(g). These entities are added with a license requirement for all items subject to the EAR, and a license review policy of denial, apart from food and medicine designated as EAR99, which will be reviewed on a case-by-case basis.

For the reasons described above, this final rule adds the following 28 entities to the Entity List and includes, where appropriate, aliases:

China

• Asia Pacific Links Ltd.;

• Guilin Alpha Rubber & Plastics Technology Company Limited;

• Hangzhou Fuyang Koto Machinery Company Limited;

• Nanjing Institute of Astronomical Optics and Technology;

• Raven International Trade Limited;

• S&C Trade PTY Company Limited;

• Shenzhen Caspro Technology Company Limited;

• Speed Business Trading (HK) Ltd.;

• Sunrising Logistics (HK) Ltd.;

• Well Fair International (Hong Kong) Ltd.; and

• Yun Xia Yuan.

Finland

• Evelog Oy;

• Luminor Oy; and

• Siberica Oy.

Germany

• ICW-Industrial Components Weirich.

Oman

• International Smart Digital Interface Company (ISDIC); and

• Moaz Ahmed Mohammed al-Haifi.

Pakistan

• AHD International;

• Genesis Technical Consultancy;

• Indus Tooling Solution;

• Longford Engineering (Pvt) Ltd.; and

• Polymaster Engineering.

Russia

• Device Consulting;

• Grant Instrument;

• SMT-iLogic;

• Streloy; and

• VSMPO-AVISMA Corporation PJSC.

United Arab Emirates

• New Era Enterprises FZE.

Modifications to the Entity List

In this final rule, BIS is revising two existing entries on the Entity List. The ERC has determined to modify the existing entry for Akhtar & Munir, first added to the Entity List under the destination of Pakistan on March 22, 2018 (86 FR 12479), by adding one alias, one address, and revising the license review policy to reference § 744.2(d) of the EAR. The ERC has determined to modify the existing entry for ICSOSO Electronics Co. Ltd., first added to the Entity List under the destination of China on June 30, 2022 (87 FR 38925), by adding seven aliases and six addresses to the entry.

ERC MEU List Decisions

Removals From the MEU List

Pursuant to the procedures detailed in supplement no. 5 to part 744 of the EAR, this final rule removes Zhejiang Perfect New Material Co., Ltd, an entity located in China, from the Military End User List (MEU List) (supplement no. 7 to part 744). The entry for this entity was added to the MEU List on December 23, 2020 (85 FR 83799, December 23, 2020). The ERC determined to remove the entry for Zhejiang Perfect New Material Co., Ltd from the MEU List on the basis of a request for removal submitted to BIS pursuant to § 744.21(b)(2) of the EAR.

This final rule removes the following one entity, located in China, from the MEU List:

China

• Zhejiang Perfect New Material Co., Ltd.

Savings Clause

For the changes being made in this final rule, shipments of items removed from eligibility for a License Exception or export, reexport, or transfer (in-country) without a license (NLR) as a result of this regulatory action that were en route aboard a carrier to a port of export, reexport, or transfer (in-country), on September 27, 2023 pursuant to actual orders for export, reexport, or transfer (in-country) to or within a foreign destination, may proceed to that destination under the previous eligibility for a License Exception or export, reexport, or transfer (in-country) without a license (NLR) before October 27, 2023. Any such items not actually exported, reexported or transferred (in-country) before midnight, on October 27, 2023, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement no. 4 to part 744 is amended by:

a. Under CHINA,

i. Adding in alphabetical order, entries for “Asia Pacific Links Ltd.;” “Guilin Alpha Rubber & Plastics Technology Company Limited;” and “Hangzhou Fuyang Koto Machinery Company Limited;”

ii. Revising the entry for “ICSOSO Electronics Co. Ltd.”;

iii. Adding in alphabetical order, entries for “Nanjing Institute of Astronomical Optics and Technology;” “Raven International Trade Limited;”” S&C Trade PTY Company Limited;” “Shenzhen Caspro Technology Company Limited;” “Speed Business Trading (HK), Ltd.;” “Sunrising Logistics (HK) Ltd.;” “Well Fair International (Hong Kong) Ltd.;” and “Yun Xia Yuan”;

b. Under FINLAND, adding in alphabetical order, entries for “Evolog Oy;” “Luminor Oy;” and “Siberica Oy”;

c. Under GERMANY, adding in alphabetical order, an entry for “ICW-Industrial Components Weirich”;

d. Under OMAN, adding in alphabetical order, entries for “International Smart Digital Interface Company (ISDIC)” and “Moaz Ahmed Mohammed al-Haifi”;

e. Under PAKISTAN:

i. Adding in alphabetical order an entry for “AHD International;”

ii. Revising the entry for “Akhtar & Munir”, and

iii. Adding in alphabetical order entries for “Genesis Technical Consultancy;” “Indus Tooling Solution;” “Longford Engineering (Pvt) Ltd.;” and “Polymaster Engineering”.

f. Under RUSSIA, adding in alphabetical order, entries for “Device Consulting;” “Grant Instrument;” “SMT-iLogic;” “Steloy;” and “VSMPO-AVISMA Corporation PJSC”;

g. Under UNITED ARAB EMIRATES, adding in alphabetical order, an entry for “New Era Enterprises FZE”.

The additions read as follows:

Supplement No. 4 to Part 744—Entity List

* * * * *

Country | Entity | License Requirement | License review policy | Federal Register citation
* * * * * * *
CHINA, PEOPLE'S REPUBLIC OF | * * * * * *
| Asia Pacific Links Ltd., a.k.a., the following one alias: —Asia Pacific Links Limited. Office 8E and Room E 8/F, Shing Hing Commercial Building, 21-27 Wing Kut Street, Central District, Hong Kong. | For all items subject to the EAR. (See § 744.11 of the EAR) | Presumption of denial | 88 FR [INSERT FR PAGE NUMBER] 9/27/2023.
| * * * * * *
| Guilin Alpha Rubber & Plastics Technology Company Limited, a.k.a., the following one alias: —Alpha Rubber. 90# Villa, Yingtelai Garden, Seven Star District, Guilin City, Guangxi Province, China; and Industry Chuangye Yuan, Kongming West Road, Seven Star District, Guilin City, Guangxi Province, China; and Run Yuan A6-2 HuiXian Road Seven Star District, Guilin City, Guangxi Province, China; and Venture Industrial Park, Kongming West Road, Qixing District, Guilin City, Guangxi Province, China; and Seven Star Road No. 71 Seven Star District, Guilin City, Guangxi Province, China. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 9/27/2023.
| * * * * * *
| Hangzhou Fuyang Koto Machinery Company Limited, a.k.a., the following two aliases: —Koto Machinery; and —Hangzhou Fuyang Ketuo Machinery. No. 3 Hengliangting, Fuyang City, Zhejiang Province, China; and No.1007, Huifeng Building, No. 3 Hengliangting Road, Fuchunjiang Street, Fuyang City, Hangzhou, Zhejiang, China; and Room 1205, No. 19, Jinping Road, Fuchun Street, Fuyang District, Hangzhou, Zhejiang, China. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 9/27/2023.
| * * * * * *
| ICSOSO Electronics Co. Ltd., a.k.a., the following eight aliases: —IC Soso Electronics Co. Ltd.; —Shenzhen Vic-zone Electronic Co Ltd; —Shenzhen Wangnianhua Electronics Co., Ltd;
| —Vic-Zone Co., Limited; —Viczone Electronics Company Ltd.; —Viczone Technology Company Limited; —Vizo Group Limited (Hong Kong); and —Weizhuo Group Co., Ltd. (Hong Kong).
| Unit 614, 6/F, Block A, Po Lung Center, 11 Wang Chiu Road, Kowloon, Hong Kong; and Rm. 311, 3/F, Genplas Industrial Building, 56 Hoi Yuen Road, Kwun Tong, Kowloon, Hong Kong; and 26-38 Kwai Cheong Rd, Room 06 Block A 23/F, Hoover Industrial Building, Kwai Chung, N.T., Hong Kong; and Room 2405 Dynamic World Building, Zhonghang Road, Futian District, Shenzhen, China; and Room 2405 Dengcheng International, Zhonghang Road, Futian District, Shenzhen, China; and Zhong Road 30, Ping DiFu Ping, LongGang District, Shenzhen, China; and R1810 B Building Jiahe Tower No. 3006, Shennan Mid Rd, Shenzhen, China; and Unit C,D, 10/F, Shenmao Building, News Rd., Futian, Shenzhen, China. | For all items subject to the EAR. (See § 744.11 of the EAR) | Presumption of denial | 87 FR 38925, 6/30/22. 88 FR [INSERT FR PAGE NUMBER] 9/27/2023.
| * * * * * *
| Nanjing Institute of Astronomical Optics and Technology, a.k.a., the following one alias: —NIAOT.
| No 188 Bancang Street, Nanjing, 210042, China; and No 188 Ban Cang Street, Nanjing, 210042, China. | For all items subject to the EAR. (See § 744.11 of the EAR) | Presumption of denial | 88 FR [INSERT FR PAGE NUMBER] 9/27/2023.
| * * * * * *
| Raven International Trade Limited, No. 19 Jingping Road Fuchun Street, Fuyang Hangzhou Zhejiang, China; and Flat B, 9/F, Mega Cube, No. 8 Wang Kwong Road, Kowloon, Hong Kong. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 9/27/2023.
| * * * * * *
| S&C Trade PTY Company Limited, Room 203, B, Lijingshangwu, No. 57 Busha Road, Buji Longgang, Shenzhen, China. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 9/27/2023.
| * * * * * *
| Shenzhen Caspro Technology Company Limited a.k.a., the following two aliases: —CASPRO Technology Co. Ltd.; and —Shenzhen Casp Technology Co., Ltd. Room 203, B Building, No. 57 Busha Road, Nanwan, Longgang, Shenzhen, China; and Room 802, Building B, No. 50, Zhuangcun Road, Xiner Community, Shajing Street, Bao'an District, Shenzhen, China. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 9/27/2023.
| * * * * * *
| Speed Business Trading (HK) Ltd., Workshop 60 3/F Block A East, Sun Industrial Centre, No. 16 Shing Yip Street, Kowloon, Hong Kong. | For all items subject to the EAR. (See § 744.11 of the EAR) | Presumption of denial | 88 FR [INSERT FR PAGE NUMBER] 9/27/2023.
| * * * * * *
| Sunrising Logistics (HK) Ltd., a.k.a., the following five aliases: —Sunrising Electronics; —Sunrising Electronics China Ltd.; —Sunrising Electronics HK Ltd; —Sunrising International; and —Sunrising Logistics.
| 15-17 Hing Yip St. Room 5-6, 15 Block B, 4FChung Mei Center, Kowloon, Hong Kong; and Room 205, 2/F Winful Center, 30 Shing Yip Street, Kwun Tong, Kowloon, Hong Kong; and Flat 11, 12F Shing Yip Industrial Building, 19-21 Shing Yip Street, Kwun Tong, Kowloon, Hong Kong. | For all items subject to the EAR. (See § 744.11 of the EAR) | Presumption of denial | 88 FR [INSERT FR PAGE NUMBER] 9/27/2023.
| * * * * * *
| Well Fair International (Hong Kong) Ltd., Unit 1105, Hua Qin International Building, 340 Queen's Road, Central, Hong Kong. | For all items subject to the EAR. (See § 744.11 of the EAR) | See § 744.2(d) of the EAR | 88 FR [INSERT FR PAGE NUMBER] 9/27/2023.
| * * * * * *
| Yun Xia Yuan, a.k.a., the following two aliases: —Chilli Yua; and —Yunxia Yuan. Room 203, B Building, No. 57 Busha Road, Nanwan, Longgang, Shenzhen, China; and Room 802, Building B, No. 50, Zhuangcun Road, Xiner Community, Shajing Street, Bao'an District, Shenzhen, China. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 9/27/2023.
* * * * * * *
FINLAND | * * * * * *
| Evolog Oy, Vanha Porvoontie 231A, Vantaa, 01380, Finland; and Tikkurilantie 10, Vantaa, 01380, Finland; and Kaskikalliontie 16F6, Vantaa, 01200, Finland. | For all items subject to the EAR. (See § 744.11 of the EAR) | Presumption of denial | 88 FR [INSERT FR PAGE NUMBER] 9/27/2023.
| * * * * * *
| Luminor Oy, a.k.a., the following two aliases: —FinPost; and —Luminor Logistics. Hakintie 7A, Vantaa, Uusimaa, 01380, Finland. | For all items subject to the EAR. (See § 744.11 of the EAR) | Presumption of denial | 88 FR [INSERT FR PAGE NUMBER] 9/27/2023.
| * * * * * *
| Siberica Oy, a.k.a., the following one alias: —Siberica. Hakintie 7A, Vantaa, 01380, Finland. | For all items subject to the EAR. (See § 744.11 of the EAR) | Presumption of denial | 88 FR [INSERT FR PAGE NUMBER] 9/27/2023.
* * * * * * *
GERMANY | * * * * * *
| ICW-Industrial Components Weirich, Geranienstr. 35, Heusweiler, 66265, Germany. | For all items subject to the EAR. (See § 744.11 of the EAR) | Presumption of denial | 88 FR [INSERT FR PAGE NUMBER] 9/27/2023.
* * * * * * *
OMAN | * * * * * *
| International Smart Digital Interface Company (ISDIC), a.k.a., the following two aliases: —Digital Interface Company Limited; and —Int'l Smart Digital.
| 8730 Way, Block 387, Al Ma'abilah South, Muscat, Oman; and P.O. Box 176 6959 Way, Block 224, Al Nebras St., Al Ma'abilah, Muscat, Oman. | For all items subject to the EAR (See § 744.11 of the EAR) | Presumption of denial | 88 FR [INSERT FR PAGE NUMBER] 9/27/2023.
| Moaz Ahmed Mohammed al-Haifi, 8730 Way, Block 387, Al Ma'abilah South, Muscat, Oman. | For all items subject to the EAR. (See § 744.11 of the EAR) | Presumption of denial | 88 FR [INSERT FR PAGE NUMBER] 9/27/2023.
* * * * * * *
PAKISTAN | * * * * * *
| AHD International, House 9, Building 9, Business Bay, Phase VII, Bahria Town, Rawalpindi, Pakistan. | For all items subject to the EAR. (See § 744.11 of the EAR) | See § 744.2(d) of the EAR | 83 FR 12479, 3/22/18. 88 FR [INSERT FR PAGE NUMBER] 9/27/2023.
| * * * * * *
| Akhtar & Munir, a.k.a., the following one alias: —Aimtech Trading Co. Hussain Plaza 60-B No. 3, Adamjee Road, Punjab 46000, Pakistan; and Office No. 333, 3rd Floor, Rania Mall, Band Road, Rawalpindi, Pakistan. | For all items subject to the EAR. (See § 744.11 of the EAR) | See § 744.2(d) of the EAR | 83 FR 12479, 3/22/18. 88 FR [INSERT FR PAGE NUMBER] 9/27/2023.
| * * * * * *
| Genesis Technical Consultancy Services, Office Number 12, 4th Floor, Khyber Plaza, Blue Area, Islamabad, Pakistan and Flat No.01, 3rd Floor, Khyber Plaza Plot No.96, Blue Area, Islamabad, Pakistan. | For all items subject to the EAR. (See § 744.11 of the EAR) | See § 744.2(d) of the EAR | 88 FR [INSERT FR PAGE NUMBER] 9/27/2023.
| * * * * * *
| Indus Tooling Solution, Suite Number 406, 4th Floor, Ibrahim Trade Tower, Plot Number 1, Block Number 6, Shahrah-e-Faisal, Karachi, Pakistan; and Suite Number 20, F-Block, Marghazar Colony, Multan Road, Lahore, Pakistan. | For all items subject to the EAR. (See § 744.11 of the EAR) | See § 744.2(d) of the EAR | 88 FR [INSERT FR PAGE NUMBER] 9/27/2023.
| * * * * * *
| Longford Engineering (Pvt) Ltd., 21-Km, Off Ferozepur Road, Green Cap Housing Scheme, Lahore, 8200688, Pakistan. | For all items subject to the EAR. (See § 744.11 of the EAR) | See § 744.2(d) of the EAR | 88 FR [INSERT FR PAGE NUMBER] 9/27/2023.
| * * * * * *
| Polymaster Engineering, Office Number 7, Islam Plaza, G-9 Markaz, Islamabad, 44000, Pakistan. | For all items subject to the EAR. (See § 744.11 of the EAR) | See § 744.2(d) of the EAR | 88 FR [INSERT FR PAGE NUMBER] 9/27/2023.
* * * * * * *
RUSSIA | * * * * * *
| Device Consulting, a.k.a., the following one alias: —Device Consulting Co. Ltd. Aerodromnaya St. 6-A-45, St. Petersburg, 197348, Russia. | For all items subject to the EAR. (See § 744.11 of the EAR) | Presumption of denial | 88 FR [INSERT FR PAGE NUMBER] 9/27/2023.
| * * * * * *
| Grant Instrument, Tsvetochaya St. 16, Building 1, Room 425, St. Petersburg, 196006, Russia. | For all items subject to the EAR. (See § 744.11 of the EAR) | Presumption of denial | 88 FR [INSERT FR PAGE NUMBER] 9/27/2023.
| * * * * * *
| SMT-iLogic, a.k.a., the following two aliases: —SMT-iLogic, LLC; and —SMT Aylogik.
| Mineralnaya, Dom 13, Litera A, Pomeshtenie 15N, Saint Petersburg, 195197, Russia; and Mineralnaya St. 13 Litera A, Ind 15H, St. Petersburg, 19005, Russia; and Nepokorennykh Avenue, 17, Building 4, B, Room 5-N, St. Petersburg, 195220, Russia. | For all items subject to the EAR. (See § 744.11 of the EAR) | Presumption of denial | 88 FR [INSERT FR PAGE NUMBER] 9/27/2023.
| * * * * * *
| Streloy, Dmitrovsky Per. 13, Office 7, St. Petersburg, 191025, Russia. | For all items subject to the EAR. (See § 744.11 of the EAR) | Presumption of denial | 88 FR [INSERT FR PAGE NUMBER] 9/27/2023.
| * * * * * *
| VSMPO-AVISMA Corporation PJSC, a.k.a., the following seven aliases: —Avisma; —Korporatsiya VSMPO-Avisma; —Oao Korporatsiya VSMPO-Avisma; —Verkhnyaya Salda Metallurgical Production Association for Aviation Special Materials; —VSMPO;
| —VSMPO-AVISMA; and —VSMPO Avisma OAO.
| 1, Parkovaya St., Verkhnaya Salda, Sverdlovsk Region, 624760, Russia; and Pao D. 2 Korp. 4 Str. 13 Of. 6, Per. Sawinski B., Moscow, 119435, Russia; and 29 Zagorodnaya Str., Berezniki, Perm Krai, 618421, Russia; and 2-4-6, Bld. 13 Bolshoi Savvinskiy Pereulok, Moscow, 119435, Russia. | For all items subject to the EAR. (See §§ 734.9(g),³ 746.8(a)(3), and 744.21(b) of the EAR) | Policy of denial | 88 FR [INSERT FR PAGE NUMBER] 9/27/2023.
* * * * * * *
UNITED ARAB EMIRATES | * * * * * *
| New Era Enterprises FZE, Business Center RAKEZ, Ras al Khaimah, UAE. | For all items subject to the EAR. (See § 744.11 of the EAR) | See § 744.2(d) of the EAR | 88 FR [INSERT FR PAGE NUMBER] 9/27/2023.
| * * * * * *

Supplement No. 7 to Part 744 [Amended]

3. Supplement no. 7 to part 744 is amended under CHINA, PEOPLE'S REPUBLIC OF by removing the entry for “Zhejiang Perfect New Material Co., Ltd.”

Thea D. Rozman Kendler,
Assistant Secretary for Export Administration.

[FR Doc. 2023-21080 Filed 9-25-23; 8:45 am]

BILLING CODE 3510-JT-P